ENVIRONMENTAL PROTECTION AGENCY

[FRL-12316-01-OA]

Local Government Advisory Committee: Request for Nominations

AGENCY: Environmental Protection Agency (EPA).

ACTION: Notice of request for nominations.

SUMMARY: The U.S. Environmental Protection Agency (EPA) invites nominations from a diverse range of qualified candidates to be considered for appointment to its Local Government Advisory Committee (LGAC). Qualified nominees for the LGAC hold elected positions with local, tribal, state, or territorial governments, or serve in a full-time government position appointed by an elected official. EPA is seeking up to 12 individuals to serve one- or two-year terms beginning in January 2025. For more information on the LGAC, including member bios, recent meeting summaries and recommendations, visit: https://www.epa.gov/ocir/local-government-advisory-committee-lgac. For more details regarding the nomination process, please see information under SUPPLEMENTARY INFORMATION.

DATES: To be considered for 2025 appointments, nominations should be submitted by November 14, 2024.

How To Apply: Submit nominations electronically to LGAC@epa.gov with a subject heading of `LGAC 2024 NOMINATION' and complete the form at https://forms.gle/TB8ehr4iJFWG4kGZ6.

FOR FURTHER INFORMATION CONTACT: Frank Sylvester, LGAC Designated Federal Officer (DFO) at (202) 564-1279/sylvester.frank.j@epa.gov or LGAC@epa.gov.

SUPPLEMENTARY INFORMATION:

Qualifications

The Local Government Advisory Committee (LGAC) is chartered under the Federal Advisory Committee Act (FACA), Public Law 92-463, to advise the EPA Administrator on environmental issues impacting local governments. Members of LGAC will provide advice and recommendations on a broad range of issues related to promoting and protecting public health and the environment. For 2025 the topics addressed may include but not be limited to:

• Continued implementation of the Bipartisan Infrastructure Law and Inflation Reduction Act

• Bolstering resilience to the impacts of climate change;

• Developing capacity for technical assistance at the local level;

• Supporting local governments in the assessment and remediation of PFAS chemicals and other emerging contaminants.

• Advancing the EPA's 2022-2026 Strategic Plan

Viable candidates must be current elected officials representing local, state, tribal, or territorial governments or officials who have been appointed directly by a local, state, tribal, or territorial elected official. Preference will be given to qualified candidates who demonstrate experience developing and implementing environmental programs consistent with the 2025 topics listed above. To maintain geographical diversity of the Committee, preference for LGAC membership may also be given to qualified candidates from tribal or territorial governments.

Additional criteria to be considered may include: experience with multi-sector partnerships; coalition-building and grassroots involvement; involvement and leadership in national, state or regional intergovernmental associations; and diversity in vocational/career/volunteer background.

Time Commitment

New LGAC members are appointed for one-year terms and are eligible for reappointment for one- or two-year terms for up to six years. In 2025, the Committee plans to hold two or three full-day, public meetings, where both in-person and online participation options will be available.

In addition to public meetings, workgroups will be created to address the 2025 topics noted above, as well as any emerging issues. Members will be encouraged to serve on one or more workgroups, where they will be asked to share their experiences working on an issue, recommend experts on an issue for the Committee to consult with, debate the nuances of policy implementation, and review written recommendations before they are shared with the full Committee. Applicants should plan to spend an average of three hours per month on Committee work. While EPA is unable to provide compensation for services, official Committee travel and related expenses (lodging, etc.) will be fully reimbursed.

Nominations

Nominations must be submitted in electronic format. To be considered, all nominations should be completed using the application at this link: https://forms.gle/TB8ehr4iJFWG4kGZ6.

Other sources, in addition to this Federal Register notice, may be utilized in the solicitation of nominees. EPA expressly values diversity, equity, and inclusion, and encourages the nominations of elected and appointed officials from diverse backgrounds so that the LGAC looks like America and reflect the country's rich diversity. Individuals may self-nominate.

Dated: October 8, 2024.
Francis Sylvester,
EPA Designated Federal Officer Local Government Advisory Committee.

[FR Doc. 2024-23763 Filed 10-11-24; 8:45 am]

BILLING CODE 6560-50-P